Proclamation 9485 of September 1, 2016

National Prostate Cancer Awareness Month, 2016

By the President of the United States of America

A Proclamation

Prostate cancer is one of the leading causes of cancer-related death in American men, and too many men and their families feel the pain and grief it brings. As a country, we must do everything in our power to support men who are battling prostate cancer, deliver the care and treatment they need, and defeat this devastating disease. A cancer-free future is within our grasp—with bold vision and daring optimism, we are pioneering medical breakthroughs in research and seeking to discover a cure for cancer in our time. During National Prostate Cancer Awareness Month, we remember all the men who lost their lives to this disease, and resolve to reach a tomorrow where prostate cancer is no longer a threat to our sons and grandsons.

In 2016, approximately 180,000 men will be diagnosed, and 26,000 men will lose their battle with prostate cancer. Incredible advancements have paved the way for better prevention, detection, and treatment of this disease, and over the past two decades, the incidence of new cases and mortality rates for prostate cancer have been steadily declining. Men who are African American, over the age of 65, or have a family history of prostate cancer are at higher risk and should be aware of risk factors and symptoms. I encourage all men to talk to their health care providers about how prostate cancer can affect them, and to learn more by visiting www.Cancer.gov/Prostate or www.CDC.gov/Cancer/Prostate.

The Affordable Care Act has ensured that more Americans have access to quality, affordable health insurance, and it prohibits insurance companies from denying coverage to someone simply because they have prostate cancer. The Act eliminates annual and lifetime limits on coverage and ensures individuals have the option to participate in clinical trials, which have proven helpful in advancing research of new treatment strategies and improving clinical care for men with prostate cancer.

This year, I asked Vice President Joe Biden to lead our Nation in a new effort to end cancer as we know it. The White House Cancer Moonshot Task Force is striving to make a decade of advances in cancer prevention, treatment, and care in just 5 years through the collaboration of Federal agencies, jumpstarted by a proposed nearly $1 billion investment. Additionally, the Department of Veterans Affairs is helping to introduce a series of pilot programs that will accelerate clinical research and care for veterans with prostate cancer using cutting-edge biotechnologies—they are also working to increase precision oncology research and strengthen personalized medicine for the treatment of prostate cancer among veterans. These efforts build on the goals of our Precision Medicine Initiative, which aims to deliver personalized care and apply medicine more efficiently and effectively based on genetics—and ultimately, to bring us closer to curing diseases like cancer.

This month, let us thank the countless researchers, medical professionals, and advocates who dedicate themselves to supporting survivors and beating cancer. Let us continue raising awareness of prostate cancer and renew our commitment to finding a cure once and for all.

NOW, THEREFORE, I, BARACK OBAMA, President of the United States of America, by virtue of the authority vested in me by the Constitution and the laws of the United States, do hereby proclaim September 2016 as National Prostate Cancer Awareness Month. I encourage all citizens, government agencies, private businesses, non-profit organizations, and other groups to join in activities that will increase awareness and prevention of prostate cancer.

IN WITNESS WHEREOF, I have hereunto set my hand this first day of September, in the year of our Lord two thousand sixteen, and of the Independence of the United States of America the two hundred and forty-first.

[FR Doc. 2016-21818

Filed 9-7-16; 11:15 am]

Billing code 3295-F6-P